FEDERAL ELECTION COMMISSION

[Notice 2009—10]

Web Site and Internet Communications Improvement Initiative

AGENCY: Federal Election Commission.

ACTION: Notice of public hearing and request for public comments.

SUMMARY: The Federal Election Commission (the “FEC” or “Commission”) has adopted an initiative to seek public comment on how to improve all aspects of how the Commission discloses information to the public on its Web site and through the use of Internet communications. While the FEC, which was first constituted in 1975, continually engages in ongoing efforts to improve all aspects of how the Commission discloses information through the Internet, with a primary focus on its Web site, the FEC has never before sought formal public comment on the means by which the Commission discloses information to the public.¹ As part of these efforts, the Commission is seeking written comments and will conduct a public hearing on ways the Commission can improve how it communicates to the public using the Internet and, specifically, how it can improve its Web site to ensure that the FEC Web site is a state-of-the-art resource for disclosure of information to the public including (1) disclosure of campaign finance data, (2) information about Federal campaign finance laws, and (3) the actions of the Commission.

¹ In 2003, the FEC began a Web site redevelopment project that resulted in a redesign of both the appearance of the site as well as the production process. The revised Web site went live in 2004 and the FEC continually seeks and receives input on how to improve the Web site. This initiative will provide the first forum for formal public comments to the Commission.

The Commission seeks comment from all segments of the public, including representatives of political committees, Federal candidates and officeholders, members of the media, authors, students of all ages, members of the academic community, and advocacy groups.

In addition to comments from the public, the Commission specifically seeks comment from those with relevant technical expertise, including technical advisors, consultants, researchers, other governmental and non-governmental agencies, non-profit entities and commercial vendors to assist with the Commission's efforts to improve the how it uses the Internet to disclose information to the public and particularly efforts to improve the FEC Web site. Such advice and information may include recommendations to the Commission for (1) expanding the Web site's disclosure features, (2) improving the information available on the Web site and ways in which that information is organized, and (3) maximizing the benefit of current and anticipated technology related to Web site services.

The Commission's policy regarding which documents are placed on the public record from closed enforcement, administrative fines and alternative dispute resolution cases is outside the scope of this initiative, and the Commission is specifically not seeking comments with respect to this issue. See Statement of Policy Regarding Disclosure of Closed Enforcement and Related Files, 68 FR 70426 (Dec. 18, 2003). The Commission plans to conduct a separate hearing with full opportunity for public comment on the issue later in the year.

DATES: Comments must be received on or before July 21, 2009. A public hearing will be held on Wednesday and Thursday, July 29-30, 2009, from 10 a.m. to 5 p.m. at the Federal Election Commission, 999 E Street, NW., 9th floor Hearing Room, Washington, DC 20463. Anyone seeking to testify at the hearing must file written comments by the due date and must include in the written comments a request to testify.

Format for Comments and Addresses: All comments must be in writing, must be addressed to Mr. Robert Hickey, Staff Director, and must be submitted in either e-mail, facsimile, or paper copy form. Commenters are strongly encouraged to submit comments by e-mail to ensure timely receipt and consideration. E-mail comments must be sent to improvefecinternet@fec.gov. If e-mail comments include an attachment, the attachment must be in the Adobe Acrobat (.pdf) or Microsoft Word (.doc) format. Faxed comments must be sent to (202) 208-3333. Paper comments must be sent to Mr. Robert Hickey, Staff Director, Federal Election Commission, 999 E Street, NW., Washington, DC 20463. All comments must include the full name and postal service address of the commenter or they will not be considered. The Commission will post all comments on its Web site at http://www.fec.gov/pages/hearings/internethearing.shtml shortly after they are received.

FOR FURTHER INFORMATION CONTACT: Robert Biersack, Special Assistant to the Staff Director for Data Integration, 999 E Street, NW., Washington, DC 20463, (202) 694-1658 or (800) 424-9530. The Commission's Web site can be accessed at http://www.fec.gov. Technical information related to the FEC's Web site, including hardware, software, capacity and functionalities can be found at http://www.fec.gov/pages/hearings/internethearing.shtml.

SUPPLEMENTARY INFORMATION:

I. Background and Hearing Goals

The FEC is an independent regulatory agency with responsibility for administering, enforcing, defending and interpreting the Federal Election Campaign Act of 1971, as amended (2 U.S.C. 431 et seq., available at http://www.fec.gov/law/feca/feca.pdf) (FECA). The Commission is also responsible for administering the Federal public funding programs for Presidential campaigns and party conventions. This responsibility includes certifying and auditing all participating candidates and committees, and enforcement of the public funding laws. The Commission strives to discharge its statutory mandate by (1) facilitating public disclosure of campaign finance activity, (2) providing information and policy guidance to the public, media, political committees, Federal candidates and officeholders, and election officials on the FECA and Commission regulations, (3) encouraging voluntary compliance with all of the FECA's requirements, and (4) investigating alleged violations of those requirements and seeking civil penalties and other remedies when necessary to enforce the law.

The FEC's Web site is increasingly the Commission's primary vehicle for sharing with the public campaign finance disclosure data, educational materials related to Federal campaign finance laws, the development and implementation of new rules and regulations, Advisory Opinions, and closed enforcement actions. Accordingly, the FEC's Web site and how the Commission uses the Internet to disclose information to the public is critical to the Commission's mission.

In 2008, the Commission received over 5.2 million visits to its Web site, or approximately 14,200 per day, an increase of over 50% from the year before. During the 24-month 2008 election cycle, the Commission received, and disclosed on its Web site, approximately 140,000 financial disclosure reports from nearly 8,000 political committees. These reports contained the equivalent of 11.7 million pages of financial data, disclosing approximately $8.3 billion in political contributions and spending related to Federal elections.

The Commission anticipates that the trend of increased traffic coming to the Commission's Web site will continue as more users seek access to information about the Federal campaign finance laws and about how Federal campaigns are financed. To improve the Web site's usefulness to the public, the Commission is seeking, through this proceeding, ways to provide the public with more timely information, as well as ways to make its Web site more user-friendly, more educational, more analytical, more accessible, and more interesting.

Among the topics on which the Commission requests comment are those discussed below. The list is not exhaustive, and the Commission welcomes input on ways in which the Commission can make improvements to the means by which the Commission discloses information to the public through the Internet, and in particular on the Commission's Web site.

However, as indicated above, the Commission's policy regarding which documents are placed on the public record from closed enforcement, administrative fines and alternative dispute resolution cases is outside the scope of this initiative but will be the subject of a separate hearing with full opportunity for public comment later in the year.

II. Introduction

The Commission recognizes that having an abundance of information available on its Web site is of little use if the information is not organized in a way that makes it easily accessible and understandable. Accordingly, it is vital to the public interest that the Commission's Web site be written and organized from the point of view of a potential user who seeks information from an agency. Although the agency's Web site must be citizen-focused, with a general public audience in mind, it must, at the same time, provide information to specialized audiences about specific areas of interest. In each case, whether a visitor to the Commission's Web site seeks general information or very specific data, the Web site should be organized in a visitor-friendly, intuitive fashion. Information should be easy to extract and it should be presented in a clear, logical and appealing manner that is easy to read and understand whether displayed on the screen, or when printed in hardcopy format.

III. The Primary Users of the Commission's Web Site

In order to ensure that the Commission's Web site adequately serves those who seek information from the Commission, the Commission must properly identify who its primary users or viewers are, including potential users who access campaign finance information from other sources either by choice or because they do not know about the Commission's Web site. These users may include members of the general public, prospective voters, prospective Federal candidates and officeholders, representatives of registered political committees such as committee treasurers, members of the media, including bloggers and the more specialized trade media, and members of the academic community, including policy institutes and advocacy groups. Users also include State and local election officials and officeholders, members of the legal profession, teachers and students, as well as other academics and librarians. The Commission seeks comment from each of these diverse audiences on whether the Commission's Web site is presently meeting their specific needs and about ways in which the Commission uses the Internet to disclose information to the public and the Commission's Web site can be improved to better serve these needs. Additionally, the Commission seeks comment on whether there may be other audiences in addition to those listed above that may seek information from the Commission's Web site. If so, how well does the current Web site serve those audiences, and what improvements can be made to serve them better?

IV. What Tasks Do the Commission's Primary Customers Perform Most Often on the Web Site?

Different audiences seeking information from the Commission's Web site search for distinct categories of information and perform diverse tasks when accessing the Web site. For instance, members of the general public might be seeking a range of information that could span from accessing contribution and expenditure data related to a recent or upcoming election to seeking information about the $3 IRS income tax form check-off that provides funding for the Presidential Election Campaign Fund. A political committee might seek more specialized information such as guidance regarding the Commission's software package that committees use to electronically file their campaign finance disclosure reports or seek information about the laws that are applicable to the committee's activities. A political committee also might seek information about the requirements or procedures for filing an advisory opinion request with the Commission and guidance about whether a question they have is appropriate for an advisory opinion request. Similarly, a political committee or a member of the public might seek information about the requirements or procedures for filing a complaint alleging a violation of the campaign finance laws or regulations. Members of the media may be interested in an entirely different set of information, such as background on the FECA or perhaps news about the Commission's most recent actions.

The Commission seeks public comment on what tasks or operations are conducted by visitors to the Commission's Web site and specifically about how different audiences may seek to perform these functions differently.

V. How Can the Commission Improve the Way Its Web Site Is Organized?

The Commission has endeavored to design and organize the information on its Web site in a cogent, rational, and intuitive way. The Commission seeks comment from users of the Commission's Web site about the visitor experience. Is navigation of the Commission's Web site intuitive? If not, in what specific ways can it be more intuitive? Are the ways that users navigate each page on the FEC's Web site adequately consistent across the Web site? If not, where do these inconsistencies exist? For example, do similar items on different pages appear in the same location and have the same appearance and wording? Do navigation items of the same type appear the same way and perform the same functions across the Web site?

Do users consider the Commission's current homepage to be sufficiently useful? If not, in what ways could it become more useful? Are visitors easily able to find what they are seeking? The Commission's current homepage is relatively static with almost no content on the homepage changing from day-to-day. The only dynamic content on the homepage is a crawl across the bottom of the page, which is changed, on average, every other week to announce the latest important news from the Commission. In addition, the homepage includes interactive maps to provide users with immediate access to disclosure data. Are these disclosure maps appropriately located on the homepage? Is the homepage too static? Should the homepage list “headlines,” “hot topics,” or “most requested information” that could be updated daily or weekly? Or is it best to leave the homepage uncluttered, serving as a top-level directory that allows viewers to access information though available links?

The Commission's Web site is currently organized by the type of information that is available, such as “Campaign Finance Reports and Data” or “Law and Regulations.” Is the information available on the Commission's Web site organized in a logical sequence? If not, how can it be better organized? Are visitors easily able to ascertain what to do next in their task?

a. Portals

In contrast to the manner in which the Commission's Web site is currently organized, should the Commission's homepage serve as a “start task” page, asking visitors what task they seek to perform, which would then take visitors to a task-based portal specifically tailored to the user's specific task? If so, what should be the topics of these “start task” pages? Alternatively, should the Commission's Web site be organized by categories of frequent users and have separate portal pages for different audiences based on those visitors' needs? Or should the Web site first ask the user what category of user he or she falls under (e.g., member of the general public, political committee representative, Federal officeholder) and then offer the user a focused portal based on the types of tasks most frequently performed by users in that category? Is there sufficiently different content to justify dividing the Web site into isolated user-portals? What is the likelihood that organizing the Web site in this way could lead to confusion among new or infrequent visitors? What other costs might such a reorganization entail?

1. The General Public

Should there be a portal page for members of the general public? If so, what information or utilities should be available on such a page? What links to other information would be most helpful for members of the general public or others seeking general campaign finance information?

2. Political Committee Representatives

Should there be a portal page designed specifically for those seeking information on behalf of a registered political committee, such as committee treasurers, that would offer direct access to the resources that are most useful for committee treasurers and other committee representatives? If so, what resources should be included on such a page? Should a portal page for political committee representatives include a link to a focused set of frequently asked questions (FAQs)? Should there be separate portal pages for different types of political committees such as party committees, corporate or labor organization connected committees (which are often referred to as Separate Segregated Funds or Political Action Committees), or nonconnected committees?

3. Federal Officeholders and Prospective Candidates

Should there be a portal page designed specifically for Federal officeholders and prospective Federal candidates? If so, what resources should be included on such a page? Should there be a separate portal page for candidates, different from one for current officeholders? Should there be different portal pages for House, Senate and Presidential candidates and officeholders? If so, what different content should be on each of these pages? Should a portal page for Federal officeholders and prospective Federal candidates include a link to a focused set of frequently asked questions (FAQs)? Should such a portal page provide procedural guidance for persons, committees or other entities who are subject to FEC proceedings such as audits and enforcement actions?

4. Media

Should there be a portal page designed specifically for members of the media? If so, what resources should be included on a media portal page? Should there be a separate portal page for the general media, different from one for the trade media? Should there be a separate portal page for members of the foreign media? If so, what different content should be on each of these pages? Should a portal page for members of the media include a link to a focused set of frequently asked questions (FAQs)?

5. Academic Community

Should there be a portal page designed specifically for members of the academic community? If so, what resources should be included on an academic community portal page? Should there be a separate portal page for students, different from one for professors? Should there be a separate portal page for policy institutes? If so, what different content should be on each of these pages? Should a portal page for members of the academic community include a link to a focused set of frequently asked questions (FAQs)?

Are there audiences other than those outlined above for whom the Commission should consider designing a separate portal? If so, for which audiences should the Commission design such portals? Alternatively, should the information be organized in some other way?

VI. User-Experience/User-Friendliness

a. Plain Language

Best practices for government Web sites mandate that a typical user of the Commission's Web site should be able to understand the Web site content after only one reading—the content should be in plain language. See http://www.plainlanguage.gov. Ideally, users should not need to spend time “translating” difficult, wordy text. Plain-language writing saves users time and reduces the burden placed on the public. The Commission has worked to meet these goals and seeks comment on whether the language used on the Commission's Web site is accessible and easy to read. Can first-time or novice users understand information on the Web site easily? If not, please provide specific examples from the Commission's Web site of language that is not easily understood.

b. Accessibility to Users With Special Needs

Should content on the Commission's Web site be revised in order to make the content more accessible to users with special needs, such as persons with disabilities? Is information on the Commission's Web site easily accessible through browse aloud text readers for visually impaired users? Should the Web site have alternative pages for users with low literacy or for foreign-language speakers?

c. Help Functions

Another important aspect of whether a Web site is sufficiently user-friendly is the directions provided to users when they cannot find the information they are looking for. The Commission's Web site currently has pages providing a list of Frequently Asked Questions (FAQs) and “Quick Answers,” to help users find the information they are seeking. Are these sections of the Web site useful? Should the Web site have a special help section that would guide users to the information they are seeking? Would a “first-time user guide” be helpful? What information might a first time user guide include that would make it different from the FAQ?

Should the Web site have a “contact us” section that would allow users to either send an e-mail to Commission staff or provide a staff telephone directory for users who are still not able to access the information they seek? Web site users can also send questions and feedback about the Web site through e-mail communications to “Webmanager@fec.gov.” Is this service sufficiently responsive and informative? Should questions and feedback be made public?

Is the Commission sufficiently receptive to suggestions made through e-mails and phone calls? Have those who have made comments or suggestions received responses from the Commission? Have the responses been satisfactory? If not, why not?

Should the Commission develop a blog to facilitate a conversation about the substance and techniques used by staff to disclose campaign finance data? Should the Web site host other blogs or user groups? If so, what topics should they cover? Should the Web site host user groups where users can interactively discuss substantive areas of campaign finance law and Commission procedures?

VII. Search Engines

a. General Search Engine

The Commission maintains various search engines on its Web site. The general search engine (“General Search Engine”) is located on the Commission's homepage and returns pages and documents from all portions of the Commission's Web site other than the contents of three self-contained databases (i.e., the disclosure database, the Advisory Opinion database, and the enforcement database), which can be accessed through the specialized search engines that are discussed below. In addition to a basic search function which allows users to conduct a simple word search, the General Search Engine also has an “advanced search” function that allows users to enter search terms or phrases and find results with (1) all of the words, (2) the exact phrase, (3) any of the words, as well as results without a specific search term or phrase.

b. Specialized Search Engines

In addition to the General Search Engine, the Commission's Web site contains three specialized search engines that allow users to search only within a specific portion of the Commission's Web site.

1. Disclosure Database Search Engine

The disclosure database search engine (“Disclosure Database Search Engine”) allows a user to search only within the contribution and expenditure data filed by registered political committees. The Disclosure Database Search Engine includes a search for summary data for candidates and Political Action Committees/Party Committees, as well as searches for detailed data for individual contributors, political committees, and candidates.

2. Advisory Opinion Search Engine

Another specialized search engine allows users to limit their search to information about Commission Advisory Opinions. Specifically, the Advisory Opinion Search Engine (“AO Search Engine”) allows users to search by (1) search terms, including words and phrases, (2) advisory opinion number, (3) requestor name and (4) year. Additionally, the advanced search function of the AO Search Engine allows users to search using more specific criteria.

3. Enforcement Query System

Finally, the Commission's Web site contains a third specialized search engine, known as the Commission's Enforcement Query System (“EQS”). This system allows a user to search for information about completed Commission enforcement cases. Specifically, EQS allows users to search within a database containing documents related to completed Commission enforcement cases (including complaints, responses, conciliation agreements and Commissioner statements of reasons) by key words or by information about the cases (e.g., case number, name of respondent, name of complainant, statute or regulation alleged to have been violated).

c. Search Engine Improvements

The Commission seeks comment on whether the Commission's search engines are sufficiently intuitive and responsive. If not, in what ways can the Commission's search engines be modified to make them more useful? Are the features of the Commission's search engines sufficiently sophisticated, robust and flexible to offer suggested choices to a user of words, spellings and phrases based on a user's query? Are the “advanced search” functions useful to viewers who wish to conduct more refined, focused searches to achieve more relevant results? Are search results displayed in an easy-to-read format both when displayed on the screen and when printed in hardcopy format? If not, in what ways can the visual and printed presentation of the materials be made more useful and appear more professional? Are search results relevant and comprehensive? Are the most relevant results listed first? Is there adequate help available on the Web site to assist visitors who are unfamiliar with or unskilled at using search technology? Do the search engines produce swift results? The Commission also seeks comment on whether the Commission's search engines should produce a link for the output of each search that users could then include in e-mails and on their own Web sites that would allow others to instantly access the results of a search.

Should a user be able to make a single query that would simultaneously search through the entire Web site, including the specialized databases? Should a user be able to selectively choose which databases are accessed through a given query? For instance, should a user be able to simultaneously query information only from the Advisory Opinion database and the Enforcement database with a single search? What search functions would be most useful to users?

The Commission also seeks comment on whether the Commission's Web site should have other specialized search engines in addition to the Disclosure Database Search Engine, the AO Search Engine and EQS. If so, what information should be accessible through such specialized search engines? For example, should the Web site have a specialized search engine devoted to Commission regulations and rulemaking documents such as Notices of Proposed Rulemakings and Explanations and Justifications? Should there be a specialized search engine devoted to information and documents related solely to the Commission's litigation matters?

VIII. Commission Function and Organization

The Commission's Web site has an “About the FEC” section that includes information about the FECA, the Commission's mission and history, and an organizational chart including a description of each of the offices and divisions within the Commission. The Commission seeks comment on whether its Web site provides adequate information about the Commission's jurisdiction, mission, and internal structure. If not, what additional information should be included? The Commission also seeks comment on whether the Web site provides adequate information about how the Commission is organized (i.e., the responsibilities of each Office and Division within the Commission). What information do other Federal agencies provide on their Web sites about jurisdiction, mission and organization? Is this information useful? If yes, how so? Are there other Federal or non-Federal government agencies, or other non-governmental entities that maintain Web sites that could serve as a model for the FEC? If so, which agencies and what aspects of their Web sites? Finally, the Commission seeks comment on whether the Web site should contain a staff phone and e-mail directory to make it easier for the public to contact Commission staff directly.

IX. Data Accessibility

a. Current Interactive Maps

The FECA requires accurate and comprehensive public disclosure by Federal candidates and political committees of all contributions and expenditures. Information about these contributions and expenditures is included in the Commission's disclosure database along with millions of other itemized disbursements, receipts and other payments.

Since 2007, the Commission homepage at www.fec.gov has included interactive maps, which provide users with immediate access to contribution and expenditure information for Presidential, Senate and House candidates. Through these maps, users can access the amount of funds raised by State, cash-on-hand, and the distribution of contributions by amount. Furthermore, users can access lists of contributors by name, city, and amounts of contributions within the first three digits of any zip code. Users can also obtain a detailed list of information about how candidates spend their money, including the payee name, purpose, date and amount of each campaign expenditure. Although the Web site allows users to sort the detailed list of expenditures by each category listed above, the Web site does not currently provide separate aggregated amounts for each category. For instance, a user cannot access an aggregated number for the amount a candidate has spent on political advertisements. Would the addition of this feature be useful?

The House and Senate map allows the user to select candidates for comparison using bar charts to display such financial categories as contribution and disbursement totals, debts and cash on hand. It also presents itemized contributions and disbursements by category and includes links to images of reports filed by the candidate and the candidate's committees.

The Commission seeks comment on whether these interactive maps are useful. How can they be improved? Are there other types of interactive maps or charts that users would find interesting or educational? In what other ways can campaign finance data be made available in a more user-friendly and interactive way?

b. Sorting of Data

The Commission seeks comment on ways in which the Web site should allow users to sort the campaign finance data. For example, should the Web site allow users to sort the data (1) by date or a range of dates, (2) by types of committees (e.g., candidate committees, party committees and corporate and labor organization connected committees), (3) by candidate, (4) by contributor (e.g., name, address, zip code and employer), or (5) alphabetically? What other ways should the Web site allow users to search for or sort the data?

The Commission is aware that other Web sites also provide access to the FEC's campaign finance data. For example, some of these Web sites permit users to sort contribution data into how much has been raised by a candidate or political committee over time, such as on a quarterly, monthly, weekly or daily basis. For expenditures, some of these Web sites allow users to sort campaign spending into categories, such as administrative costs, campaign expenses, fundraising costs and media costs. One Web site allows users to sort contributor information in a number of ways, including by name, address, zip code, employer and contribution amount (e.g., $200 or less). Additionally, this Web site allows a user to sort contributor information into top donors, top soft money donors, and top Political Action Committee (PAC) categories. This same Web site allows users to sort data into other categories, such as candidate-to-candidate giving, quality of disclosure and source of funds (e.g., individual contributions, PAC contributions and candidate self-financing). Other Web sites identify top contributors, top recipients, top contributing states and top bundlers.

Should the FEC's Web site allow users to sort campaign finance data in ways similar to these other Web sites? If yes, which sorting options would be useful and why? Do these other Web sites allow users to sort the data in any other useful ways? If so, in what ways and should the Commission's Web site also provide these functions?

Should the Commission's Web site allow users to access election-related information other than campaign finance data, such as the number of votes a candidate received in a prior election? After each Federal election the Commission has historically compiled and published election results in a document entitled Federal Elections, which is made available on the Web site. See http://www.fec.gov/pubrec/electionresults.shtml. Is it appropriate for the Commission's Web site to provide access to election-related data that are outside the Commission's direct jurisdiction (e.g., studies and government reports other than campaign finance data)? If not, why not?

c. Compilation, Presentation and Analysis of Data

The Commission also seeks comment on ways in which the Commission should facilitate compilation, presentation and analysis of the campaign finance data. What types of additional analysis of the data would be useful? Should the Commission provide tools for users to be able to generate their own graphs, charts and maps based on the data they have accessed?

Should the Commission permit the storage and presentation of search or sort results? Additionally, should the results from the most popular queries be presented on the Web site for others to view? If yes, should these queries be posted anonymously or should the user be asked for permission before his or her query is posted? If the Commission's Web site allows users to access election-related information that is outside the Commission's direct jurisdiction, such as the number of votes a candidate received in a prior election, should the Commission allow users to sort these data interactively and facilitate compilation, presentation and analysis of these data in relation to campaign finance data? For instance, should the Commission's Web site allow users to calculate the amount spent by a candidate on a campaign relative to the number of votes that candidate received in the election?

d. Availability of Raw Data

The FEC currently provides the ability to download in bulk form, on a daily basis, campaign finance data from all electronic filings received earlier that day. Is this process useful? Are there changes or enhancements to this process that would be useful? For example, should the Commission provide “real-time” access to the bulk data as soon as it is filed throughout the day? Also, should the Commission allow users to download only a designated portion of the data?

The Commission also currently makes selected raw data available for download via File Transfer Protocol (FTP). These files reflect both “as amended” snapshots of itemized individual contributions to committees and receipts and disbursements where both parties to the transaction are registered with the FEC. Is this general approach valuable? If not, what other alternatives are available? Does the benefit that comes from reducing duplication and other complexities inherent in the raw data the Commission receives justify the time delays required for the FEC to do this work? Are there other categories of financial activity that should be included in this system—e.g., details of spending, debts, etc.? Should specific types of activity (like independent expenditures or electioneering communications) be available as separate files rather than as part of a larger set?

The Commission seeks comment on what improvements can be made to the methods that the Commission uses in making raw campaign finance data available through its Web site. For example, are the data currently available in an adequate format that permits users to aggregate, segregate, or otherwise manipulate and analyze the data? Should the Commission develop a different format for the data that is more consistent with current data dissemination practices such as XML (Extensible Markup Language) or JSON (JavaScript Object Notation)? Also, should the Commission provide open-source public Application Programming Interfaces (APIs) so that other Web sites can download the data more easily? In what other ways can the Commission facilitate the syndication by other Web sites of data yielded from a search?

The Commission also seeks comment on what improvements can be made to the way the Commission makes data related to amendments to committee reports available to the public. Are those who access campaign finance reports able to easily separate data in reports that have been amended by a reporting committee from the data contained in the report that was originally filed? If not, what would be a better and more understandable way to present that information?

e. Data Storage

Does the Commission need to restructure the way that campaign finance data are stored? For example, although a complete set of bulk raw data is available for download, the Commission's official COBOL-based database is currently published in a fixed width format that only allows for up to 35 characters in the column containing data about each contributor's occupation and employer. In other words, a user searching campaign finance data on the Commission's Web site will only see the first 35 characters of information (which includes letter, numbers, symbols, as well as spaces between words) about a contributor's occupation and employer and, as a result, this information is often truncated, thereby providing incomplete information to the public. One observer estimates that this limitation causes a loss of over 20% of the occupation and employer information that should be otherwise accessible through the Commission's disclosure database. See Federal Election Commission, Hearing on Agency Practices and Procedures (Jan. 15, 2009) (statement of Clay Johnson, Sunlight Foundation), available at http://www.fec.gov/law/policy/enforcement/2009/01141509hearingtranscript.pdf.

Although the Commission anticipates releasing a software update shortly that will resolve the truncation issue described above, are there other examples of information that is missing or incomplete in the Commission's disclosure database? The Commission invites comment on ways the Commission could provide the public with access to fully complete disclosure data.

f. Timeliness of Data Availability

Finally, the Commission seeks comment on whether the Commission's data are made available in a timely manner. Although electronically filed disclosure reports are available to the public immediately after they are filed, currently the data contained in those reports are reviewed by Commission staff before they are made available through queries and data files on the Commission's Web site. This staff review, which standardizes the data through such steps as (1) assigning transaction codes, (2) splitting joint contributions reported from married couples, and (3) adding missing committee identification numbers, can take anywhere from a few days to a few weeks to complete. Should the data be made available to the public even before the Commission staff has had time to conduct its review? What risks exist in releasing potentially inaccurate or incomplete data? What are the implications of releasing unreviewed data followed by a second release of the same data in a modified format? Are there risks of confusion with such an approach? If so, what measures could be implemented to avoid such confusion?

X. Educational Materials

The FEC publishes various types of educational materials, all of which can be accessed on the Commission's Web site. These materials include (1) brochures (brief summaries of particular provisions of the law or descriptions of the Commission's programs and procedures), (2) Campaign Guides (compliance manuals for committees registered with the Commission), and (3) The Record (the Commission's monthly newsletter). The Commission also maintains a “Tips for Treasurers” page on its Web site with timely tips and reminders to help political committee treasurers meet their obligations under the law. The Commission also offers an electronic subscription service, FECMail (available at http://www.fec.gov/info/fecmaill.shtml), which provides subscribers with personalized e-mail updates on the latest Commission news and information.

a. Brochures

The Commission publishes several educational brochures all of which are made available to the public free of charge. Electronic versions of these brochures are also available on the Commission's Web site. These brochures offer brief summaries of particular provisions of the law or describe FEC programs and procedures. These brochures are available in both HTML and PDF formats at http://www.fec.gov/pages/brochures/brochures.shtml and examples of covered topics include (1) Advisory Opinions, (2) Coordinated Communications and Independent Expenditures, and (3) Public Funding of Presidential Elections. The HTML versions of the brochures include interactive links for cited statutes, regulations and Advisory Opinions.

The Commission seeks comments on whether both the printed versions and the electronic versions of the brochures are user-friendly and ways in which they can be improved. Should the Commission continue to publish both printed and electronic versions of the brochures? The Commission also seeks comment on whether the Commission should develop brochures on additional topics and, if so, which topics should be covered.

b. Campaign Guides

The Commission publishes campaign guides, which serve as compliance manuals for Federal political committees. Electronic versions of these guides are available at http://www.fec.gov/info/publications.shtml#guides. Separate guides are available for (1) Congressional Candidates and Committees, (2) Political Party Committees, (3) Nonconnected Committees and (4) Corporations and Labor Organizations. The electronic versions of these guides include all supplements to date, summarizing relevant post-publication rules and opinions. The Commission seeks comment on whether the printed versions and electronic versions of these guides are sufficiently educational, understandable, and presented in a user-friendly manner and, if not, how they can be improved. For example, should important terms be linked by hypertext to other sources available on the Web site, such as links to the text of a cited rule, an Advisory Opinion or court decision? In what other ways can these guides be improved? Should the Commission continue to publish both printed and electronic versions of the guides? More generally, does the Web site contain sufficient guidance about complying with the Commission's reporting requirements? Does the Web site contain sufficient information about complying with contribution limits and other provisions of the FECA? In not, what additional information would be useful?

c. The Record Newsletter

The FEC publishes a monthly newsletter, The Record, which is automatically sent electronically to all political committees and is also available through the Web site. The Record is designed to be a useful resource for anyone interested in the most recent developments in Federal campaign finance law and at the Commission. Each month, The Record contains the latest information on reporting deadlines, regulations, advisory opinions, court decisions and other FEC actions. Can The Record be improved and, if so, how? Is The Record a useful resource for all of the audiences that access the Commission's Web site? Should the Commission produce a different version of The Record for different audiences? For instance, should there be an edition of The Record specifically targeted to representatives of political committees and a different edition targeted to members of the general public?

d. Commission Calendar

The Commission's homepage currently provides a link to a Commission calendar that includes information about Commission public meeting dates, Commission hearing dates, significant filing deadlines and educational programs, as well as other information. Should the Commission include other categories of information? If so, what information should be included? For example, should the calendar include significant dates related to pending litigation including a schedule of oral arguments?

e. Materials for the Media

Currently, the media section of the FEC's Web site is designed as a tool to help members of the media find information quickly and easily. This section contains the Commission's latest press releases and campaign finance information, as well as background information and reference materials. This section also contains a link to a “Weekly Digest” that includes items such as (1) public actions taken by the Commission for the previous week, (2) interesting events occurring at the Commission regardless of formal actions being taken, (3) important items of litigation, and (4) a schedule for the upcoming weeks. Users may also subscribe to the FECMail service to receive alerts through e-mail when new press releases are posted. The Commission seeks comment on ways in which the media page of its Web site and the press release subscriber service can be improved.

The Commission seeks comment on all of these educational materials. Are these materials useful and, specifically, are they useful for members of the general public? If not, how can the Commission make the materials more useful? Are these materials updated in a timely manner? Should these materials cover additional topics that would help the general public better understand the campaign finance laws and the role of the Commission?

Should the Commission create educational materials unique to its Web site? For instance, the Commission is developing e-learning content for its Web site, including instructional videos and interactive presentations intended to supplement the FEC's existing educational materials. By offering this content on the Commission's Web site and via YouTube, the Commission hopes to expand access to its educational materials and thereby increase compliance with Federal campaign finance laws. The Commission seeks comment on what topics would be most useful for its e-learning materials and what is the best way to make these materials available to the public.

Additionally, the Commission seeks comment on whether the Commission should create other interactive materials that would permit the public to submit questions through its Web site, for example, using live chat. Should the Web site host a chat room for viewers to engage each other on issues related to the FEC and campaign finance? The Commission also seeks comment on whether it should provide other types of educational materials. For example, the Commission currently sends a weekly “Tip for Treasurers” to subscribers though an RSS (Really Simple Syndication) feed. Should the Commission make available additional RSS feeds? Should the Commission post answers to questions submitted by the public through its Web site?

Additionally, the Commission seeks comment on whether it should proactively use social media in order to reach new audiences and engage the public? For example, should the Commission use Facebook, Wikipedia, Twitter or Second Life? Would the use of such social media assist the Commission in its educational outreach? If yes, how should the Commission use these social media?

XI. Educational Programs

The Commission sponsors a number of conferences each year, both in the Washington, DC area and around the country, where Commissioners and FEC staff conduct a variety of instructional workshops on campaign finance law. Each conference has programs that are tailored to a specific audience (e.g., House and Senate campaigns or corporations and their PACs). Typically, the Commission sponsors five of these conferences each year and the conferences often sell out well in advance. Should the Commission hold more conferences each year? Should the conferences be held in additional locations around the country? If so, where?

Should the Commission make audio or video recordings of these conferences available through its Web site? Would participation by conference attendees be affected by recording conferences? If the Commission records conferences, what technology should the Commission use? Should the Commission make available live streaming of the conferences? Should users be able to download the recordings from the Web site? Should users be able to order audio tapes, CD and DVD recordings? Should the Commission seek to provide Continuing Legal Education (CLE) credit for attorneys who attend these courses and for users who access the audio or video recordings of the programs? Should the Commission seek to provide Continuing Professional Education (CPE) credit for Certified Public Accountants (CPAs) who attend these courses or who access the audio or video recordings?

In addition to the conferences, should the Commission offer other tele-conferences, PowerPoint presentations or online courses or discussion forums? If so, what topics should be covered? How frequently should live programs be offered? After the live programs are over, should the Commission continue to make the materials from these programs available? If so, for what period of time should they remain available?

XII. Legal Research

a. Enforcement Query System

Materials related to closed enforcement cases including Matters Under Review (MURs), which is the formal name for a matter under Commission investigation, and closed Alternative Dispute Resolution (ADR) cases are available on the FEC's Web site at the tab entitled Enforcement Query System (EQS). See http://eqs.nictusa.com/eqs/searcheqs. Through EQS, Web site visitors may access the Commission's enforcement documents, including complaints, responses, conciliation agreements and Commissioner statements of reasons, using key words or phrases or by basic information about these cases (e.g., by name of complainant or respondent, or by case number). Users can also search cases by the type of violation alleged to have occurred. The Commission seeks comment on whether the query choices are sufficiently robust. Do users find it easy to search closed enforcement cases by the type of violation alleged to have occurred? If not, in what ways can EQS be improved to facilitate these types of searches? Is it easy to search by both the type of violation alleged to have occurred and the legal citation? Are the search results accurate? If not, what are the inaccuracies?

Once a user has located a specific MUR or ADR case through a query of EQS, the system currently does not allow the user to then share direct access to all the documents associated with that particular MUR or ADR case with another user through a specified Uniform Resource Locator (URL) or hyperlink. Rather, users must be instructed to go to the EQS query page where the user would then run a new query using the MUR or ADR case number in order to access the relevant documents. Should EQS provide a function that would allow users to link directly to a specific MUR and ADR case? If so, what would be the best way for EQS to provide such a function?

The Commission was constituted in 1975 and closed its first MUR in January 1976. At the present time, MURs that closed after January 1, 1999 are available on EQS. MURs from 1976 to 1998 are presently available only on microfilm at the Commission's Public Disclosure Room in Washington, DC. However, the Commission is in the process of digitizing the microfilm in order to make documents from all closed MURs available online. Are there any particular ways the Commission can make online access to these newly added MURs more user-friendly? For instance, the Commission intends to use optical character recognition to ensure these documents are text searchable. Are there other ways EQS can be improved?

The EQS system does not currently contain any information regarding the Commission's Administrative Fines program. The Administrative Fines program covers violations of FECA section 434(a), 2 U.S.C. 434(a), by committees that file their disclosure forms late, or do not file at all. See 11 CFR Part 111, Subpart B. Should the Commission include on the EQS system documents related to the Administrative Fines program? Would including Administrative Fines documents in EQS assist political committees in fulfilling their reporting responsibilities under the Act?

b. Advisory Opinion Search Engine

The Commission's Web site currently allows searches of advisory opinions (AOs) from 1975 to the present, including searches of certain documents associated with all AOs issued by the Commission since 1999, such as requests, public comments, and concurring and dissenting opinions. Links to all of these related documents are available for AOs issued since 1999. Would it be helpful if the Commission were to include documents related to AOs issued prior to 1999? The Commission has recently completed an upgrade of the AO search system, resulting in enhanced search functionalities and flexibility in displaying and sorting search results, as well as improved navigability, and new features, such as the ability to display all search hits in results and an option to display PDF documents full-screen.

The Commission seeks comment on the recently upgraded AO Search Engine and whether the expanded AO query choices are sufficiently robust. Are results accurate? Do they clearly and accurately reflect when an AO has been superseded by a change in the law or by a subsequent AO? In what ways can the Web site's AO search capabilities be improved? Should the documents in the AO search database include annotations?

c. Litigation Documents

The Commission brings enforcement suits in U.S. District Courts when matters are not satisfactorily resolved through the administrative enforcement process and sues to enforce administrative subpoenas. The FEC is also involved in defending lawsuits, which generally fall into the following three categories: (1) Lawsuits contesting the Commission's dismissals of administrative complaints under 2 U.S.C. 437g(a)(8); (2) petitions seeking review of Commission decisions regarding the Presidential public funding program; and (3) civil suits challenging the constitutionality of provisions of the FECA and the validity of the Commission's regulations. Materials related to litigation are currently available on the Commission's Web site and are divided into four sections. The section entitled “Selected Recent and Ongoing Litigation” provides links to materials related to recent litigation involving the FEC. “Major Campaign Finance Court Decisions” identifies key court decisions relating to the campaign finance law and provides links to materials related to those decisions. There is also an “Alphabetical Index of FEC Court Cases” that lists pending and past FEC cases alphabetically with links to summaries and, for some cases, to court opinions and other documents, such as the filed briefs. Finally, the Web site includes a “Subject Index for FEC Court Cases” that lists pending and past FEC cases by subject matter with links to summaries and, for some cases, to court opinions and other documents.

The Commission seeks comment on whether the information is sufficiently complete and user-friendly. Are there pleadings, orders and court opinions that impact the Commission, the FECA, and the public, that are not found on the Web site? For example, the Web site currently contains only pleadings that were filed by the FEC or by parties aligned with the FEC. Should the Web site also provide access to pleadings filed by opposing parties? Are the documents timely posted and adequately indexed? Are the documents easy to locate and search? Should the Web site contain summaries of cases and opinions? Should the Web site contain links to the court opinions for every pending and past case?

d. Rules, Statutes and Policy Statements

The FEC promulgates rules (also known as regulations) that implement the FECA and other statutes. The Commission's Web site currently provides access to the Commission's regulations, as well as a variety of legal resources, including the text of the FECA and other relevant statutes. See http://www.fec.gov/law/cfr/cfr.shtml; http://www.fec.gov/law/feca/feca.shtml.

Currently, a compilation of all the Commission's rules is available in a single PDF file on the Web site at http://www.fec.gov/law/cfr/cfr_2009.pdf. The Web site also provides a link to the Government Printing Office's (GPO) Web site where a user can access each rule individually, both in PDF and text formats. See http://www.access.gpo.gov/nara/cfr/waisidx_09/11cfrv1_09.html. Are the Commission's rules easy to find? Can the Commission's rules be printed easily? What improvements can the Commission make in making its regulations available and accessible to the public?

Whenever the Commission promulgates a new regulation it also adopts an Explanation and Justification (E&J) providing detailed information about the new rule. All of the Commission's E&Js are available on the Web site at http://www.fec.gov/law/cfr/cfr.shtml and are organized both by citation (by Part, rule number, and title) and chronologically (by date of adoption). Are the E&Js organized in a useful way? If not, how should they be organized? Should they be organized by related subject matter? Are the E&Js easy to locate? Once located, are they easily searched?

Similarly, is the text of the FECA and other relevant statutes easy to find on, and print from, the Commission's Web site? The FECA is often amended though the passage of other statutes such as, most recently, the Honest Leadership and Open Government Act of 2007 (HLOGA), Public Law 110-81, 121 Stat. 735 (2007). Are these statutory amendments to the FECA easy to find? If not, how can the Commission make them more accessible? Should the Commission provide annotated versions of its rules and of the FECA that discuss court interpretation or promulgation history, or cross-reference Advisory Opinions, enforcement matters and litigation?

The Commission also makes its policy statements available on the Web site at http://www.fec.gov/law/policy.shtml. The policy statements address such issues as (1) Best Efforts to Collect Contributor Information, (2) Self Reporting of Campaign Finance Violations (Sua Sponte Submissions), and (3) Safe Harbor for Misreporting Due to Embezzlement. Are the policy statements organized in a useful way? If not, in what other way should they be organized?

e. Rulemakings

Documents relating to recent (starting from 2007) and ongoing FEC rulemakings are listed by topic in reverse chronological order on the Commission's Web site, with new rulemakings added to the top of the list. See http://www.fec.gov/law/law_rulemakings.shtml. Documents related to older rulemakings (1999-2006) are also available on a Rulemakings Archive page at http://www.fec.gov/law/RulemakingArchive.shtml. Are the Commission's rulemakings easy to find? Is the information related to each rulemaking organized in a useful way? If not, how should they be organized? Should the Rulemakings Archive page include proceedings from prior to 1999? Is there additional information related to Commission rulemakings that would be useful to include on the Web site?

XIII. Electronic Filing of Disclosure Reports

Since 2001, almost all political committees have been required to file reports and statements electronically with the Commission (the requirement to file electronically does not currently apply to Senate candidate committees). Political committees generally must file all reports and statements electronically if their total contributions or total expenditures exceed, or are expected to exceed, $50,000 in a calendar year. See 11 CFR 104.18. The Commission seeks comment on whether the Commission's electronic filing system is easy to use, particularly for first-time users. The Commission seeks comment on ways in which the Commission's electronic filing system can be improved, such as whether the Commission's electronic filing software, FECFile (available at http://www.fec.gov/elecfil/FECFileIntroPage.shtml), is sufficiently user-friendly and whether the Commission has provided sufficiently clear instructions to help filers use the software.

FECFile is the Commission's electronic report filing software application designed to run on Windows platforms that enables filers to record and track information required for reporting to the Commission and to securely submit these data to the Commission electronically. Have filers been able to use the FECFile software on computers with the latest Windows operating systems such as 64-bit Vista? Should FECFile be modified to also operate on a MAC platform? The Commission is aware that several commercial vendors also offer other software packages that political committees can use to record and track financial information that can then be reported to the Commission. See http://www.fec.gov/elecfil/software.shtml. The Commission seeks comment on ways in which FECFile can be improved. What functions are not available through the use of FECFile that are available through commercial software packages (e.g., drop-down windows that would offer a choice of acceptable descriptions of purpose for particular reported disbursements)? Should FECFile be modified to include those functions? Is FECFile as flexible, intuitive and helpful as commercially available software packages? If not, in what ways is it less flexible, intuitive or helpful?

In order to file electronic disclosure reports using FECFile, a user must obtain a password (whether for the first time or as a replacement of an old password) by faxing or mailing a request letter to the Commission. If the request letter is sent on behalf of a political committee, the letter must be signed by the committee's treasurer. A member of the Commission staff then calls the requester and provides a password over the phone. Should the Commission allow users to request a first-time password electronically through the Web site? Should users also be able to electronically change their passwords, or create new ones when an old password is forgotten? If yes, what security measures should the Commission put in place to ensure that passwords are only provided to authorized persons?

The Commission has not made public the source code for the FECFile software package. If the Commission made the source code for FECFile public, this would allow others to develop modifications to the software on their own. Would this be useful? If so, how?

Generally, the Commission seeks comment on whether providing FECFile software to filers is the best approach to facilitate the electronic filing process. Are there alternative approaches that would better serve this function, such as using instead a Web-based report filing system that would not require reporting committees to use separate specialized software?

With respect to the existing FECFile software package, can novice users easily input the required information? If not, what types of common problems do users encounter? User manuals, Frequently Asked Questions (FAQs), and other documents to assist FECFile users are available on the Commission's Web site at http://www.fec.gov/support/index.shtml. Are these materials sufficiently helpful to FECFile users? In what ways can the materials be improved? Should focused guidance be available for each data entry space and should the guidance be accessible by clicking in or near that data entry space? If there are problems that FECFile users are unable to resolve, does the Commission provide adequate technical support? If not, what are the current deficiencies and how can these be addressed?

Additionally, because it is common for electronically filed disclosure reports to contain missing, incomplete or even inconsistent data, the Commission's staff is often required to reconcile the data before it can be useful to the public. The Commission invites suggestions on ways in which the Commission might be able to mitigate the work currently required by Commission staff to reconcile the data. For example, should the Commission's electronic filing system automatically prevent filers from submitting reports with missing, incomplete or inconsistent data and at the same time inform the filer of the deficiency and suggest ways in which the report can be corrected thereby allowing the filer to know in advance that there is a problem and provide information about possible solutions?

The Commission currently makes available a set of programming tools, including electronic filing specifications requirements and validation software, for vendors to use in developing their own commercial software packages. Are these tools useful? How can they be improved? Should the Commission employ a more rigorous certification standard for commercial software? Are new or more rigorous software standards for commercial software packages advisable to prevent filing of reports with missing, incomplete or inconsistent data, or do current standards need to be better enforced? How can the Commission ensure that changes do not unfairly burden candidates, especially less well-funded challengers?

XIV. Electronic Filing of Other Documents

The Commission interacts with the public, the media, political committees, and other entities through a variety of means. The above-described electronic filing system, which resulted in improvements to the Commission's filing procedures, is one such means. The Commission seeks comments on whether the use of electronic “portals” for filing purposes could improve the Commission's procedures in other areas.

For instance, in rulemaking proceedings, although the Commission currently allows comments on proposed rules to be submitted by e-mail, should the Commission allow electronic filing of petitions for rulemaking and for comments in rulemaking proceedings through its Web site? If so, should the Commission move to an entirely online system for filing of petitions for rulemaking and for comments in rulemaking proceedings, such that paper versions of comments and rulemaking petitions submitted by the public would no longer be accepted?

Similarly, should the Commission implement a system for electronic filing of advisory opinion requests? Should the Commission also implement a web-based electronic filing system for commenting on advisory opinion requests and draft advisory opinions, whereby comments could be filed directly through the Commission's Web site either by entering text on the Web site or by uploading a file? If so, should the Commission mandate the electronic submission of all documents submitted by members of the public in connection with advisory opinions, such as advisory opinion requests, comments on advisory opinion requests, and comments on draft advisory opinions?

The Commission's Web site currently provides information to the public regarding the procedures for filing a complaint with the Commission. At the present time, however, all complaints must be submitted on paper by mail or in person. Respondents are provided with notices of complaints pursuant to the provisions of the Act, but currently all responses also are submitted by hard copy. The Commission seeks comments on whether it should accommodate electronic filing of complaints and responses. Should the Commission allow electronic filing of complaints and responses to substitute for paper copies? Rather than allowing for permissive electronic filing, should the Commission mandate electronic filing for complaints and responses? Given that FECA requires that all complaints be signed and sworn by the person filing the complaint, would an electronic signature, or even the use of a user account and password, satisfy this statutory requirement? When the Commission communicates with respondents, such as sending notifications of reason-to-believe or subpoenas for documents, should the respondent be encouraged to submit answers and documents by e-mail or, alternatively, through a web-based submission form? Also, should the Commission accept conciliation agreements that contain an electronic signature by electronic means?

XV. Commission Meetings

Audio recordings of public Commission meetings are generally available on the Commission's Web site within 48 hours after a meeting. See http://www.fec.gov/audio/audio.shtml. The Commission currently does not create video recordings of its public meetings. The audio recordings are available in an MP3 file format, which can be played through a user's preferred software such as Windows Media Player, Real Player, or QuickTime. The Commission also makes these audio recordings available as podcasts, which are automatically sent to a user once a user signs up for the podcasts on the Commission's Web site. The URL for the Commission's podcasts is http://www.fec.gov/audio/fec_audio.xml.

The Commission seeks comment on whether these audio recordings are useful. Should they be made available in different formats? If so, which formats? Should the Commission make live audio streaming of its meetings available as well?

Should the Commission make available video recordings of its meetings? If so, should a live stream of the video be made available or is a recording sufficient? What technology should the Commission use to provide access to video streaming of its meetings?

In addition to audio and video recordings, should the Commission make available written transcripts of its open meetings? If yes, would it be appropriate for the Commission to charge for access to such transcripts?

XVI. Technical Issues

a. Software and Operating Systems

The Commission seeks comment on a number of technical issues relating to its Web site, including URL naming conventions, the use of metadata, Web site accessibility, formatting, and hardware.

The Commission uses a number of URL naming conventions in designating names for the pages on its Web site. For example, the Commission uses lower case letters and has set a number of directories related to major categories of information available on the Web site. The Commission seeks comment on whether it is using appropriate URL naming conventions for the pages on its Web site.

The Commission also seeks comment on other aspects of data receipt and presentation. For example, what metadata standards should the FEC use and why? The Commission also seeks comment on how easily its Web site can be accessed by the public. Is the Commission's Web site accessible using different web browsers, such as Internet Explorer, Mozilla Firefox, Safari or Google Chrome? Also, is the Commission's Web site accessible using different operating systems and at different connection speeds? Is the Commission's Web site accessible using recently released versions of operating systems such as 64-bit Vista? What can the Commission do to ensure that its Web site remains accessible as new technology becomes available?

b. Hardware

The Commission also seeks comment on the type of computer hardware the Commission uses to support its Web site. The Commission currently uses load-balanced Sun Fire servers running Solaris 10 with Webserver Apache. Are these servers the best hardware for a Web site such as the FEC's? If not, why not and what kind would serve the public better? What innovations or advancements are anticipated in the near future? In what ways can the FEC plan for such advancements?

c. File Formatting

The Commission also seeks comment on its Web site formatting and printability. The Commission currently uses Adobe Dreamweaver for Web site development. Is Dreamweaver the best software available for development of a Web site such as the FEC's? If not, why not and what software would serve the public better now and in the future?

Are the Commission's Web site pages formatted properly to allow for easy printing? Should the Commission employ a “printer friendly” function on its Web site? If so, on which pages?

The Commission also seeks comment on whether documents are made available in formats that are easy to access, such as HTML (Hyper Text Markup Language), XML (Extensible Markup Language), Microsoft Word or PDF. For example, are there adequate links to the downloadable free PDF viewer provided? Is page download time for PDF documents quick enough, especially for scanned documents? Finally, should large documents be made available for viewing and printing by smaller sections or chapters?

XVII. Maintenance of Content

The Commission updates its Web site on a daily basis by adding new information, updating old information and removing obsolete information. Examples of these changes include guidance about new statutes and regulations. The Commission seeks comment about whether information is added, updated and deleted in a timely manner. If not, what would be a reasonable time period within which information should be added, updated or deleted? Is the information on the FEC's Web site current? Are users easily able to see whether a page is current? For example, should each page on the Commission's Web site provide information about the “date posted” or “last reviewed” to allow viewers to assess whether the information is current? Should the Commission maintain archived versions of the Web site so that users can access information that was available in the past? If so, how should the Commission make archived versions of the Web site accessible?

When new information is added to a Web site it is important to ensure that the new information is not duplicative, or worse yet, contradictory to information that is already available. Additionally, it is vital that links are updated to ensure that viewers can access the information they seek. The Commission seeks comment on whether its Web site contains contradictory or erroneous content. Are links on the Commission's Web site maintained properly?

The Commission also seeks comment on whether, and if so, how often, it should conduct a content review of the entire Web site to ensure that online content is accurate, relevant, mission-related and written in plain language.

XVIII. Privacy Policy

Federal agencies are under an obligation to protect the privacy of the American people when they interact with their government. Accordingly, agencies are required to have clear privacy policies and to post those policies on their Web sites. The FEC's privacy policy is available at http://www.fec.gov/privacy.shtml. The Commission seeks comment on whether its privacy policy is appropriate and adequate.

XIX. Implementation of Changes

After the Commission reviews the written comments filed in response to this notice, as well as the testimony from witnesses at the hearing, the Commission will consider implementing improvements to the ways in which the Commission uses the Internet to disclose information to the public, including changes to the Commission's Web site. Once the Commission implements such changes, what is the most effective way for the Commission to inform the public about those changes? For example, should the Commission provide a link on the homepage to a guide regarding changes? Should the Commission issue a press release? Are there other ways the Commission should inform the public once the Web site is updated?

XX. Customer Satisfaction & Future Improvements

The Commission currently receives comments and suggestions regarding its Web site through e-mails sent to the Commission's Web Manager (Webmanager@fec.gov). Currently, the Commission has no other method of measuring the usability of its Web site or customer satisfaction. Thus, the Commission seeks suggestions on ways in which the Commission could measure usability and customer satisfaction. For example, should the Commission conduct focus groups? Should the Commission conduct online surveys? Should the Web site host blogs in which users could provide feedback? Should these blogs be made available to the public? Are there any privacy concerns that the Commission should be aware of that are associated with conducting online surveys?

Going forward, the Commission seeks comment on how it may most effectively review and make further Web site improvements. Also, the Commission seeks comment on the most effective way to solicit and receive further feedback and suggestions. Is the Commission's use of the Webmaster e-mail address sufficient? Should the Commission proactively solicit additional feedback from the public? Finally, the Commission seeks comment on whether it should post user comments and suggestions on the Commission's Web site. If so, should the Commission also post actions taken by the Commission in response to such comments and suggestions?

XXI. Recommended Resources

Are there private resources such as research centers, academic institutions, or technical experts and consultants, available that the Commission might not be aware of that could assist the Commission in implementing improvements to the ways in which the Commission discloses information to the public and improvements to its Web site in the most expeditious and efficient manner possible? If so, what are those resources and how can the Commission access them? Are those resources available from commercial entities or non-profit organizations? Are there other government agencies that maintain Web sites that the Commission should try to emulate? If so, which agencies and why?

Dated: March 25, 2009.
Steven T. Walther,
Chairman, Federal Election Commission.

Editorial Note: This document was received in the Office of the Federal Register on Thursday, June 25, 2009.

[FR Doc. E9-15497 Filed 6-30-09; 8:45 am]

BILLING CODE 6715-01-P